DEPARTMENT OF ENERGY

Federal Energy Regulatory Commission

[Docket No. CP16-125-000]

National Fuel Gas Supply Corporation; Notice of Schedule for Environmental Review of the Line T2KNY Install, Line TNY Replacement, and Line KNY Abandonment Project

On April 4, 2016, National Fuel Gas Supply Corporation (National Fuel) filed an application in Docket No. CP16-125-000 requesting a Certificate of Public Convenience and Necessity pursuant to sections 7(b) and (c) of the Natural Gas Act to construct and abandon certain natural gas pipeline facilities. The proposed project is known as the Line T2KNY Install, Line TNY Replacement, and Line KNY Abandonment Project (Project). The Project would eliminate vintage bare steel pipeline, replacing it with modern, high strength, coated steel pipeline, therefore increasing the overall integrity and reliability of National Fuel's pipeline system.

On April 15, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA August 3, 2016

90-day Federal Authorization Decision Deadline November 1, 2016

If a schedule change becomes necessary, additional notice will be provided so that the relevant agencies are kept informed of the Project's progress.

Project Description

National Fuel proposes to install approximately 1.2 miles of new 20-inch-diameter natural gas pipeline (Line T2KNY), replace approximately 6.7 miles of 20-inch-diameter bare steel pipeline with 7.0 miles of 24-inch-diameter coated natural gas pipeline (Line TNY), abandon approximately 14.9 miles of 20-inch-diameter bare steel natural gas pipeline (Line KNY), make modifications at two existing National Fuel meter and regulator stations (North Boston and East Eden), and make modifications at National Fuel's existing Zoar Compressor Station in Erie County, New York. The Line T2KNY Install, Line TNY Replacement, and Line KNY Abandonment Project would allow National Fuel to cure operating deficiencies on Line TNY and would provide an additional 2,600 dekatherms per day of new firm capacity which would be offered in an open season.

Background

On May 2, 2016, the Commission issued a Notice of Intent to Prepare an Environmental Assessment for the Proposed Line T2KNY Install, Line TNY Replacement, and Line KNY Abandonment Project and Request for Comments on Environmental Issues (NOI). The NOI was sent to affected landowners; federal, state, and local government agencies; elected officials; environmental and public interest groups; Native American tribes; other interested parties; and local libraries and newspapers.

To date, no comments have been received on the NOI. The New York State Department of Agriculture and Markets is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-125), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 7, 2016.
Kimberly D. Bose,
Secretary.

[FR Doc. 2016-16668 Filed 7-13-16; 8:45 am]

BILLING CODE 6717-01-P